NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 16, 2001. Once the appraisal of the records is completed, NARA will send a copy of the schedule. NARA staff usually prepare appraisal memorandums that contain additional information concerning the records covered by a proposed schedule. These, too, may be requested and will be provided once the appraisal is completed. Requesters will be given 30 days to submit comments.

ADDRESSES: To request a copy of any records schedule identified in this notice, write to the Life Cycle Management Division (NWML), National Archives and Records Administration (NARA), 8601 Adelphi Road, College Park, MD 20740-6001. Requests also may be transmitted by FAX to 301-713-6852 or by e-mail to records.mgt@nara.gov. Requesters must cite the control number, which appears in parentheses after the name of the agency which submitted the schedule, and must provide a mailing address. Those who desire appraisal reports should so indicate in their request.

FOR FURTHER INFORMATION CONTACT: Marie Allen, Director, Life Cycle Management Division (NWML), National Archives and Records Administration, 8601 Adelphi Road, College Park, MD 20740-6001. Telephone: (301) 713-7110. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of the Army, Agency-wide (N1-AU-01-23, 2 items, 2 temporary items). Files pertaining to compensation cases for work-related injury or illness involving employees paid with non-appropriated funds. Included are applications for compensation with supporting information, examining physicians reports, investigative reports, information substantiating claims, and Department of Labor forms. Also included are electronic copies of documents created using electronic mail and word processing.

2. Department of Defense, Office of the Inspector General (N1-509-01-1, 6 items, 4 temporary items). Investigative data maintained electronically that is used to manage investigations conducted by the Defense Criminal Investigative Service. Included are master files, documentation, outputs, and electronic copies of documents created using electronic mail and word processing. Recordkeeping copies of selected case files were previously approved for permanent retention. In this schedule, an extract of the master file consisting of data pertaining to permanent case files, along with system documentation, is proposed for permanent retention.

3. Department of Health and Human Services, Health Care Financing Administration (N1-440-01-1, 8 items, 8 temporary items). Records relating to the enrollment of providers and suppliers into the Medicare program. Records include enrollment forms, copies of professional licenses, certifications, registrations, and resumes. Electronic copies of documents created using electronic mail and word processing are also included.

4. Department of the Navy, Agency-wide (N1-NU-01-1, 5 items, 5 temporary items). Reports and related records of non-criminal investigations into allegations of lost or compromised security-classified information. This schedule reduces the retention period for these records, which were previously approved for disposal. Also included are electronic copies of documents created using electronic mail and word processing that pertain to these records and to other previously scheduled records relating to non-criminal investigations and inquiries.

5. Department of State, U.S. Mission to the Organization for Economic Cooperation and Development (N1-84-01-1, 2 items, 1 temporary item). Electronic copies of documents created using electronic mail and word processing that pertain to negotiations relating to the Multilateral Agreement on Investment. Recordkeeping copies of these files are proposed for permanent retention.

6. Department of the Treasury, Bureau of the Public Debt (N1-53-01-5, 30 items, 30 temporary items). Division of Accounts and Reconcilement records consisting of outputs from previously scheduled electronic systems, including the Series HH/H Bond System, the Matured Unredeemed Bond System, the United States Savings Bond System, and the Public Debt Accounting and Reporting System. Records consist of printouts of bond transaction reports. Also included is an on-line tracking system for matured unredeemed bonds and electronic copies of documents created using electronic mail and word processing applications.

7. Department of the Treasury, Treasury Inspector General for Tax Administration (N1-56-01-5, 23 items, 22 temporary items). Records relating to administrative, audit, and investigative functions transferred from the Internal Revenue Service (IRS). Included are such records as correspondence, audit reports, special studies, routine investigative case files, exhibits, receipts, logs, and working papers. These records were previously approved for disposal in schedules submitted by the IRS. Also included are electronic copies of documents created using electronic mail and word processing. Recordkeeping copies of significant investigative case files are proposed for permanent retention.

8. Judicial Review Commission on Foreign Asset Control, Agency-wide (N1-220-01-1, 4 items, 2 temporary items). Electronic copies of records created using electronic mail and word processing. Recordkeeping copies of correspondence, hearings, reports, and files accumulated by Commissioners and staff members are proposed for permanent retention.

9. National Archives and Records Administration, Agency-wide (N1-64-01-2, 7 items, 7 temporary items). Records relating to the recruitment and re-certification of members of the Senior Executive Service, the administration of the Family Medical Leave Act, and appeals of adverse actions submitted to the Merit System Protection Board. This schedule also increases the retention period for Personal Injury files covered under General Records Schedule 1, item 31. Also included are electronic copies of documents created using electronic mail and word processing.

10. Office of Government Ethics. (N1-522-01-2, 2 items, 2 temporary items). Forms and related records used to process requests for reasonable accommodation equipment or services made by employees with disabilities. Electronic copies of records created using electronic mail and word processing are also included.

Dated: May 22, 2001.
Michael J. Kurtz,
Assistant Archivist for Record Services—Washington, DC.

[FR Doc. 01-13494 Filed 5-29-01; 8:45 am]

BILLING CODE 7515-01-P